DEPARTMENT OF AGRICULTURE

Forest Service

Notice of Proposed New Fee Sites; Federal Lands Recreation Enhancement Act, (Title VIII, Pub. L. 108-447)

AGENCY: Salmon-Challis National Forest, Forest Service, USDA.

ACTION: Notice New Fee Sites.

SUMMARY: The Salmon-Challis National Forest is proposing to begin charging fees at three recreation sites. All sites have recently been reconstructed or amenities have been added to improve services and experiences. Fees are assessed based on the level of amenities and services provided, cost of operation and maintenance, market assessment, and public comment. Funds from fees would be used for the continued operation and maintenance of these recreation sites.

Two campgrounds on the Challis-Yankee Fork Ranger District, Custer #1 and Flat Rock Extension Campground received extensive rehabilitation in 2007 and are conveniently located near the Historic Custer Townsite and the Yankee Fork of the Salmon River. The funds collected will be used for the continued operation and maintenance of these popular campgrounds. The proposed fee would be $5.00 per night.

Twin Creek Picnic Area is currently a fee free site, however improvements made in 2008 and 2009 included new toilet facilities and a rehabilitated drinking water system and addressed sanitation and safety concerns, an overall improvement to the recreation experience. The proposed fee to help maintain this site would be $20.00 per day to reserve and use the large group picnic site which features the historic CCC-era picnic shelter, parking, drinking water, group fire place and horseshoe pits.

DATES: Send any comments about these fee proposals by September 2013 so comments can be compiled, analyzed and shared with a Recreation Resource Advisory Committee. New fees would begin after May 2014.

ADDRESSES: Chuck Mark, Forest Supervisor, Salmon-Challis National Forest, 1206 South Challis Street, Salmon, Idaho 83467.

FOR FURTHER INFORMATION CONTACT: Trish Callaghan, Recreation Program Coordinator, (208) 756-5115 or email at scnf_fee_comments@fs.fed.us. Information about proposed fee changes can also be found on the Salmon-Challis National Forest Web site: http://www.fs.usda.gov/main/scnf/passes-permits/recreation.

SUPPLEMENTARY INFORMATION: The Federal Recreation Lands Enhancement Act (Title VII, Pub. L. 108-447) directed the Secretary of Agriculture to publish a six month advance notice in the Federal Register whenever new recreation fee areas are established. Once public involvement is complete, these new fees will be reviewed by a Recreation Resource Advisory Committee prior to a final decision and implementation.

Dated: June 5, 2013.
Charles A. Mark,
Forest Supervisor.

[FR Doc. 2013-16598 Filed 7-10-13; 8:45 am]

BILLING CODE 3410-11-M